DEPARTMENT OF LABOR

Employment and Training Administration

Investigations Regarding Certifications of Eligibility To Apply for Worker Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 28, 2002.

Interested person are invited to submit written comments regarding the subject matter of the investigations to the Director, Division of Trade Adjustment Assistance, at the address shown below, not later than May 28, 2002.

The petitions filed in this case are available for inspection at the Office of the Director, Division of Trade Adjustment Assistance, Employment and Training Administration, U.S. Department of Labor, Room C-5311, 200 Constitution Avenue, NW., Washington, DC 20210.

Signed at Washington, DC, this 18th day of March, 2002.
Edward A. Tomchick,
Director, Division of Trade Adjustment Assistance.

Appendix
[Petitions Instituted on 03/18/2002]
TA-W | Subject firm (petitioners) | Location | Date of petition | Product(s)
41,036 | Wiggins Lumber Co. (Wrks) | Wiggins, MS | 11/16/2001 | Pine lumber.
41,037 | Devant, Ltd (Comp) | Monroe, NC | 02/19/2002 | Woven towels.
41,038 | Murray, Inc. (Comp) | McKenzie, TN | 02/07/2002 | Mowers.
41,039 | Carboloy, Inc (Comp) | Lenoir City, TN | 01/28/2002 | Mowers.
41,040 | Chambersburg Engineering (Wrks) | Chambersburg, PA | 01/29/2001 | Heavy Capital equipment.
41,041 | United Central Industrial (Comp) | Bassett, VA | 01/15/2002 | Cutting and milling tools for furniture.
41,042 | Partridge River Inc. (Wrks) | Hoyt Lakes, MN | 01/28/2002 | Hardwood.
41,043 | Champion Parts, Inc. (IBEW) | Beech Creek, PA | 01/28/2002 | Carburators.
41,044 | Spectra Products/Custom (Comp) | Grand Haven, MI | 02/22/2002 | Fabricated Wood and Metal Parts.
41,045 | Modine Manufacturing, Inc (Comp) | LaPorte, IN | 02/27/2002 | Radiators.
41,046 | STS Apparel (Wrks) | Hialeah, FL | 01/12/2002 | Tee Shirts.
41,047 | C.G. Bretting Mfg. Corp. (IAMAW) | Ashland, WI | 02/14/2002 | Paper Folding Machines.
41,048 | Grede Pryor Foundry (USWA) | Pryor, OK | 01/26/2002 | Ductile Iron Castings.
41,049 | Hale Products, Inc. (Comp) | St. Joseph, TN | 01/31/2002 | Portable Fire Pump.
41,050 | Quality Components (Wrks) | Ridgway, PA | 02/11/2002 | Coils for Winding Forms.
41,051 | West Point Foundry (Comp) | West Point, GA | 02/01/2002 | Capital Equipment—Textile Machinery.
41,052 | Steel Valley Crane Serv. (Comp) | Canfield, OH | 02/08/2002 | Provide Engineering Services—Cranes.
41,053 | Prime Manufacturing (IAM) | Oak Creek, WI | 02/06/2002 | Locomotive Accessories.
41,054 | Trinity Industries, Inc (Wrks) | Springfield, MO | 02/05/2002 | Complete Railcars and Underframes.
41,055 | Portex, Inc. (Wrks) | Ft. Myers, FL | 02/07/2002 | Disposable Medical Supplies.
41,056 | LTV Tubular Products (USWA) | Youngstown, OH | 02/08/2002 | Weld Line Pipe & Standard Pipe.
41,057 | Ingersoil CM Systems, Inc (Comp) | Midland, MI | 02/08/2002 | Machine Tools: Crankshaft.
41,058 | Elswier Science (Wrks) | Philadelphia, PA | 02/01/2002 | Publish Medical Books.
41,059 | Evy of California (Wrks) | Bakersfield, CA | 01/10/2002 | Children's Apparel.
41,060 | Brooks Instruments (Wrks) | Hatfield, PA | 02/07/2002 | Sensors for Flow Meters.
41,061 | Jeld-Wen of White Swan (Comp) | White Swan, WA | 02/06/2002 | Pine Cutstock for Windows.
41,062 | Palmetto Loom Reed Co (Comp) | Greenville, SC | 02/05/2002 | Loom Reeds.
41,063 | Lakemont Mfg Co., Inc. (Comp) | Lakemont, GA | 01/24/2002 | Ladies' Pants.
41,064 | Ocean State Finishing Co (Wrks) | Woonsocket, RI | 01/28/2002 | Textile Dye and Finishing.
41,065 | Wabash National (Wrks) | Huntsville, TN | 02/14/2002 | Flatbed Trailers.
41,066 | Twin Rivers Textile (Wrks) | Schenectady, NY | 02/06/2002 | Printing and Finishing Textiles.
41,067 | SCP Global Technologies (Wrks) | Boise, ID | 02/01/2002 | Semi Conductor Equipment.
41,068 | Ansewn Footwear (Comp) | Bangor, ME | 02/04/2002 | Shoes and Belts.
41,069 | Michigan Magnetics, Inc (Comp) | Vermontville, MI | 02/05/2002 | Magnetics.
41,070 | Cali Sportswear Co., Inc (UNITE) | Pen Argyl, PA | 02/05/2002 | Knit Slacks.
41,071 | Tyco International Ltd (Comp) | Arab, AL | 01/29/2002 | Electromechanical & Electronic Switches.
41,072 | Fourth, Inc. (Comp) | Charlotte, NC | 01/29/2002 | Knitted Fabric for Apparel.
41,073 | Vishay Dale Electronics (Comp) | Norfolk, NE | 02/07/2002 | Resistors.
41,074 | Microtek Medical/Triad (Wrks) | Waynesville, NC | 02/04/2002 | Disposable Surgical Drapes.
41,075 | Altec Industries, Inc (Wrks) | Plains, PA | 02/07/2002 | Powerline Trucks.
41,076 | Clarion Sintered Metals (Wrks) | Ridgway, PA | 02/08/2002 | Powdered Metal Parts—Automotive.
41,077 | Maloney Tool and Mold (Comp) | Meadville, PA | 02/04/2002 | Injection Molds.
41,078 | Thomson Consumer Electron (Wrks) | Indianapolis, IN | 02/01/2002 | Automatic Test Equipment.
41,079 | Exide Technologies (Comp) | Florence, MS | 02/04/2002 | Automative Batteries.
41,080 | Bacou Dalloz USA (Comp) | Snow Hill, NC | 02/20/2002 | Personal Respiratory Protective Equip.
41,081 | Bacou Dalloz USA, Inc. (Comp) | Reading, PA | 02/20/2002 | Personal Respiratory Protective Equip.
41,082 | Bacou-Dalloz (Comp) | Lakeland, FL | 02/20/2002 | Eye Protection for Laser Systems.
41,083 | Ellery Homestyles LLC (Wrks) | Pinebluff, NC | 02/14/2002 | Distribute Window Curtains.
41,084 | Milady Bridals, Inc. (UNITE) | Union City, NJ | 02/14/2002 | Bridal Gowns.
41,085 | BBI Enterprises, LP (UAW) | Alpena, MI | 02/14/2002 | Fiberglass Insulators.
41,086 | Abbott Laboratories (Comp) | Laurinburg, NC | 02/18/2002 | Medical Equip/(IV) Units, Surgical Kits).
41,087 | Holoplace Corp (Wrks) | Pataskaia, OH | 02/01/2002 | Ballasts—Lamp Fixtures.
41,088 | Crompton and Knowles (Wrks) | Reading, PA | 02/08/2002 | Textile and Specialty Dyes, Food Color.
41,089 | Weavexx (Wrks) | Greeneville, TN | 02/10/2002 | Forming Fabrics for Paper Machines.
41,090 | Regal Originals, Inc. (Comp) | New York, NY | 02/05/2002 | Ladies' Apparel.
41,091 | Halliburton Energy (Comp) | Tucson, AZ | 02/21/2002 | Oil and Gas.
41,092 | Brown and Sharpe/Standard (IAM) | Poughkeepsie, NY | 01/11/2002 | Precision Measuring Instruments.
41,093 | Greenwood Mills, Durst (Comp) | Greenwood, SC | 12/18/2002 | Fabrics.
41,094 | STMicroelectronics, Inc (Comp) | San Diego, CA | 02/28/2002 | Integrated Circuits.
41,095 | Woolrich, Inc (Comp) | Woolrich, PA | 02/27/2002 | Apparel Fabrics.
41,096 | Greystar Corp (Wrks) | Houston, TX | 12/05/2001 | Provide Oil Field Services.
41,097 | Tillmann Tool and Die (Wrks) | Breckenridge, MN | 12/07/2001 | Plastic Injection Molds, Dies and Jigs.
41,098 | Marathon Electric (Wrks) | Wausau, WI | 02/13/2002 | Electric Motors and Generators.
41,099 | Olamon Industries (Comp.) | Old Town, ME | 03/08/2002 | Audio Cassette Cases.
41,100 | Russell Yarn—Alex City (Comp.) | Alexander City, AL | 02/02/2002 | Spin Yarn.
41,101 | Black and Decker National (Comp) | Nashville, TN | 02/08/2002 | Reconditioned Power Tools.

[FR Doc. 02-12385 Filed 5-16-02; 8:45 am]

BILLING CODE 4510-30-M